DEPARTMENT OF THE INTERIOR

National Park Service

[NPS-WASO-NAGPRA-NPS0029373; PPWOCRADN0-PCU00RP14.R50000]

Notice of Intent To Repatriate Cultural Items: San Diego Museum of Man, San Diego, CA

AGENCY: National Park Service, Interior.

ACTION: Notice.

SUMMARY: The San Diego Museum of Man, in consultation with the appropriate Indian Tribes or Native Hawaiian organizations, has determined that the cultural items listed in this notice meet the definition of unassociated funerary objects. Lineal descendants or representatives of any Indian Tribe or Native Hawaiian organization not identified in this notice that wish to claim these cultural items should submit a written request to the San Diego Museum of Man. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the San Diego Museum of Man at the address in this notice by February 3, 2020.

ADDRESSES: Kara Vetter, Director of Cultural Resources, 1350 El Prado, Balboa Park San Diego, CA 92101, telephone (619) 239-2001 Ext. 44, email kvetter@museumofman.org.

SUPPLEMENTARY INFORMATION: Notice is here given in accordance with the Native American Graves Protection and Repatriation Act (NAGPRA), 25 U.S.C. 3005, of the intent to repatriate cultural items under the control of the San Diego Museum of Man, San Diego, CA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1927 and 1942, 66 cultural items were removed from site W-253 in San Diego County, CA. Malcolm J. Rogers, on behalf of the San Diego Museum of Man, B.E. McCown, and M.F. Farmer, independent archeologists, conducted excavations in the vicinity of San Vicente Dam. Six cremations in the possession of B.E. McCown, and notated as such by M.F. Farmer are related to 66 funerary objects. The human remains are not under the control of the San Diego Museum of Man. The 66 unassociated funerary objects are 55 projectile points, nine ceramic undecorated body sherds, one chipped stone—biface, and one ceramic—other.

Sometime in the 1930's, 46 cultural items were removed from site W-262 in San Diego County, CA. Malcolm J. Rogers, on behalf of the San Diego Museum of Man, conducted excavations in the vicinity of Cuyamaca Peak. This site was notated as a cremation, to which 46 funerary objects are likely related. The human remains are not under the control of the San Diego Museum of Man. The 46 unassociated funerary objects are eight projectile points, six chipped stones—biface, one ceramic decorated body sherd, three ceramic undecorated body sherds, two ceramic decorated rim sherds, eight ceramic undecorated rim sherds, one ceramic—other, one chipped stone unworked flake, one chipped stone—core, three chipped stone—core tool, one mano, two groundstone—other, one historic metal, two scrapers, one hammerstone, one unmodified shell, one chopper, two utilized flakes, and one ecofact.

Sometime prior to 1950, eight cultural items were removed from site W-264 in San Diego County, CA. Malcolm J. Rogers, on behalf of the San Diego Museum of Man, conducted excavations in the vicinity of Witch Creek. An uncollected cinerary urn was discovered when a local rancher was digging out stumps. Based upon their relation to notated cremations, these eight items are unassociated funerary objects. The human remains are not under the control of the San Diego Museum of Man. The eight unassociated funerary objects are four projectile points, one ceramic decorated body sherd, one ceramic undecorated body sherd, one ceramic undecorated mixed sherd, and one chipped stone scraper.

Sometime prior to 1950, 29 cultural items were removed from sites SDI-35 and SDI-38 or W-291 and W-291A in San Diego County, CA. Malcolm J. Rogers, on behalf of the San Diego Museum of Man, conducted excavations in the vicinity Old Town. Subsequently, during the Inland Highway Bridge project, six burials were discovered by City Engineers in the area of these excavations. Based upon their relation to the notated burials, these 29 items are unassociated funerary objects. The human remains are not under the control of the San Diego Museum of Man. The 29 unassociated funerary objects are one projectile point, six ceramic undecorated body sherds, two ceramic undecorated rim sherds, one ceramic undecorated mixed sherd, two chipped stone unworked flakes, one utilized flake, one core tool, five manos, one groundstone—other, two ecofacts, four historic ceramics, two historic metals, and one historic glass.

At a date most likely prior to 1950, 16 cultural items were removed from site W-313 in San Diego County, CA. Malcolm J. Rogers, on behalf of the San Diego Museum of Man, conducted excavations in the vicinity Oakzanita Peak. Pot sherds were notated as at one time containing a cremation. Based upon their relation to the notated evidence of a cremation, these 16 items are unassociated funerary objects. The human remains are not under the control of the San Diego Museum of Man. The 16 unassociated funerary objects are one ceramic undecorated rim sherd, one lot of ceramic decorated rim sherds, one lot of ceramic undecorated body sherds, three ceramic decorated body sherds, four additional ceramic pieces, two unmodified shells, two manos, one lot of chipped stone unworked flakes, and one ecofact.

Based upon cultural resources archival research, geographic, ethnographic, and archeological information, and oral history, as well as consultation with the Kumeyaay Nation, these unassociated funerary objects have been culturally affiliated with the Kumeyaay.

Determinations Made by the San Diego Museum of Man

Officials of the San Diego Museum of Man have determined that:

• Pursuant to 25 U.S.C. 3001(3)(B), the 165 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California (previously listed as the Santa Ysabel Band of Diegueno Mission Indians of the Santa Ysabel Reservation); Inaja Band of Diegueno Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Indian Reservation, California; San Pasqual Band of Diegueno Mission Indians of California; Sycuan Band of the Kumeyaay Nation (hereafter referred to as “The Tribes”).

Additional Requestors and Disposition

Lineal descendants or representatives of any Indian Tribe or Native Hawaiian organization not identified in this notice that wish to claim these cultural items should submit a written request with information in support of the claim to Kara Vetter, Director of Cultural Resources, 1350 El Prado, Balboa Park San Diego, CA 92101, telephone (619) 239-2001 Ext. 44, email kvetter@museumofman.org, by February 3, 2020. After that date, if no additional claimants have come forward, transfer of control of the unassociated funerary objects to The Tribes may proceed.

The San Diego Museum of Man is responsible for notifying The Tribes that this notice has been published.

Dated: November 22, 2019.
Melanie O'Brien,
Manager, National NAGPRA Program.

[FR Doc. 2019-28378 Filed 1-2-20; 8:45 am]

BILLING CODE 4312-52-P